DEPARTMENT OF THE TREASURY

Fiscal Service

Surety Companies Acceptable on Federal Bonds: Correction—International Fidelity Insurance Company

AGENCY: Financial Management Service, Fiscal Service, Department of the Treasury.

ACTION: Notice.

SUMMARY: This is Supplement No. 3 to the Treasury Department Circular 570; 2001 Revision, published July 2, 2001, at 66 FR 35024.

FOR FURTHER INFORMATION CONTACT: Surety Bond Branch at (202) 874-6765.

SUPPLEMENTARY INFORMATION: The underwriting limitation for International Fidelity Insurance Company, which was last listed in Treasury Department Circular 570, July 2, 2001 revision at 66 FR 35044 as $3,402,000, is hereby corrected to read $3,600,000, effective today.

Federal bond-approving officers should annotate their reference copies of the Treasury Circular 570, 2001 Revision, at page 35044 to reflect this change. The Circular may be viewed and downloaded through the Internet at http://www.fms.treas.gov/c570/index.html. A hard copy may be purchased from the Government Printing Office (GPO), Subscription Service, Washington, DC, telephone (202) 512-1800. When ordering the Circular from GPO, use the following stock number: 769-004-04067-1. Questions concerning this notice may be directed to the U.S. Department of the Treasury, Financial Management Service, Financial Accounting and Services Division, Surety Bond Branch, 3700 East-West Highway, Room 6A04, Hyattsville, MD 20782.

Dated: September 20, 2001.
Wanda J. Rogers,
Director, Financial Accounting and Services Division, Financial Management Service.

[FR Doc. 01-24609 Filed 10-1-01; 8:45 am]

BILLING CODE 4810-35-M